DEPARTMENT OF COMMERCE

National Oceanic and Atmospheric Administration

RIN 0648-XD695

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Groundfish Recreational Advisory Panel to consider actions affecting New England fisheries in the exclusive economic zone (EEZ). Recommendations from this group will be brought to the full Council for formal consideration and action, if appropriate.

DATES: This meeting will be held on Thursday, January 22, 2015 at 10 a.m.

ADDRESSES:

Meeting Address: The meeting will be held at the DoubleTree by Hilton, 50 Ferncroft Road, Danvers, MA 01923; telephone: (978) 777-2500; fax: (978) 750-7959.

Council Address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The items of discussion on the agenda are:

The panel will receive an overview of the Council's Groundfish Priorities for 2015 and a presentation summarizing the recreational management measures in Draft Groundfish Framework Adjustment 53. The panel will also receive presentations on proactive AMs for FY 2015 for Gulf of Maine (GOM) haddock and GOM cod, including potential mechanisms to further reduce actual discard mortality of GOM cod (e.g., adoption of circle hooks). The panel plans to discuss and recommend GOM haddock and GOM cod proactive AMs for FY 2015 to the Groundfish Committee.

Additionally, they will discuss and recommend other related issues to the Groundfish Committee, as appropriate. The panel will initiate discussion of the recreational management measure process improvement—2015 Council Priority. The panel plans to hold elections for Chair and Vice Chair of the Recreational Advisory Panel. The panel will discuss other business as necessary.

Although non-emergency issues not contained in this agenda may come before these groups for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

The meeting is physically accessible to people with disabilities. Requests for sign language interpretation or other auxiliary aids should be directed to Thomas A. Nies, Executive Director, at (978) 465-0492, at least 5 days prior to the meeting date.

Authority: 16 U.S.C. 1801 et seq.

Dated: December 31, 2014.
Tracey L. Thompson,
Acting Deputy Director, Office of Sustainable Fisheries, National Marine Fisheries Service.

[FR Doc. 2014-30934 Filed 1-5-15; 8:45 am]

BILLING CODE 3510-22-P